DEPARTMENT OF TRANSPORTATION

Office of the Secretary

Notice of Applications for Certificates of Public Convenience and Necessity and Foreign Air Carrier Permits Filed Under Subpart B (Formerly Subpart Q) During the Week Ending November 4, 2005

The following Applications for Certificates of Public Convenience and Necessity and Foreign Air Carrier Permits were filed under subpart B (formerly subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2002-13159.

Date Filed: October 31, 2005.

Due Date for Answers, Conforming Applications, or Motion to Modify Scope: November 21, 2005.

Description: Application of Valley Air Express, Inc. requesting a fitness review to resume service between Victorville, CA and Henderson, NV and, an exemption from the 45 day notice period.

Docket Number: OST-2005-22880.

Date Filed: November 1, 2005.

Due Date for Answers, Conforming Applications, or Motion to Modify Scope: November 22, 2005.

Description: Application of Swift Air, LLC requesting a certificate of public convenience and necessity to engage in interstate and foreign air transportation of persons, property and mail.

Docket Number: OST-2005-22882.

Date Filed: November 2, 2005.

Due Date for Answers, Conforming Applications, or Motion to Modify Scope: November 23, 2005.

Description: Application of Gazpromavia Aviation Company Ltd. requesting a foreign air carrier permit to engage in charter all-cargo service between the Russian Federation and the United States.

Renee V. Wright,
Program Manager, Docket Operations, Federal Register Liaison.

[FR Doc. 05-23166 Filed 11-22-05; 8:45 am]

BILLING CODE 4910-62-P